DEPARTMENT OF LABOR

Employment and Training Administration

[TA-W-55,216]

ITW Insulation Systems, Nitro, WV; Notice of Affirmative Determination Regarding Application for Reconsideration

By application of October 4, 2004, the United Steelworkers of America, Local Union 14614, Nitro, West Virginia requested administrative reconsideration of the Department of Labor's Notice of Negative Determination Regarding Eligibility to Apply for Worker Adjustment Assistance, applicable to workers of the subject firm. The denial was signed on August 11, 2004, and the notice of determination was published in the Federal Register on September 8, 2004 (69 FR 54320).

The petitioner has alleged that because the last separations occurred in August 2004, the relevant time period extends to the end of August 2004. The Union also alleged that the customer survey should have included primary customers located in the northeast part of the United States.

Because the investigatory period is limited to the petition date (July 7, 2004), the first request cannot be accommodated. However, the Department will conduct an expanded customer survey.

Conclusion

After careful review of the application, I conclude that the claim is of sufficient weight to justify reconsideration of the Department of Labor's prior decision. The application is, therefore, granted.

Signed in Washington, DC, this 11th day of January, 2005.
Elliott S. Kushner,
Certifying Officer, Division of Trade Adjustment Assistance.

[FR Doc. E5-202 Filed 1-19-05; 8:45 am]

BILLING CODE 4510-30-P